DEPARTMENT OF AGRICULTURE

Forest Service

Direction for Processing Interstate Natural Gas Pipeline Proposals on National Forest System Lands

AGENCY: Forest Service, USDA.

ACTION: Notice of issuance of agency directive.

SUMMARY: The Forest Service is amending its Forest Service Manual chapter 2720, to incorporate without change, an interim directive to guide its employees in processing proposals for interstate natural gas pipeline projects. This amendment is designed to update existing direction in the Forest Service Manual chapter 2720, consistent with a May 2002 interagency agreement between the Department of Agriculture and the Federal Energy Regulatory Commission. The agreement establishes procedures for responding to and processing applications for interstate natural gas pipeline projects when the Federal Energy Regulatory Commission will be the lead agency in conducting the required environmental and historic preservation reviews.

DATES: This amendment is effective December 28, 2007.

ADDRESSES: This amendment is available electronically from the Forest Service via the World Wide Web/Internet at http://www.fs.fed.us/im/directives. Single paper copies of the Amendment are also available by contacting Julett Denton, Lands Staff (Mail Stop 1124), Forest Service, 1400 Independence Avenue, SW., Washington, DC 20250-1124 (telephone 202-205-1256).

FOR FURTHER INFORMATION CONTACT: Julett Denton, Lands Staff (202-205-1256).

Individuals who use telecommunication devices for the deaf (TDD) may call the Federal Information Relay Service (FIRS) at 1-800-877-8339 between 8 a.m. and 8 p.m., Eastern Standard Time, Monday through Friday.

SUPPLEMENTARY INFORMATION: The amendment to FSM 2720 provides Forest Service field officers with specific procedures to assure that the agency carries out the streamlining processes in the interagency agreement and directs that field officers fully engage as a cooperating agency in the FERC's processing of these types of applications.

Dated: December 19, 2007.
Abigail R. Kimbell,
Chief, Forest Service.

[FR Doc. E7-25163 Filed 12-27-07; 8:45 am]

BILLING CODE 3410-11-P